DEPARTMENT OF ENERGY

Federal Energy Regulatory Commission

[Docket No. RP85-60-016]

Overthrust Pipeline Company; Notice of Report of Refunds

January 30, 2004.

Take notice that on January 20, 2004, Overthrust Pipeline Company tendered for filing a refund report. Overthrust states that the report documents refunds of amounts pertaining to and detailing the Deferred Income Tax (DIT) refund payments for the year 2003.

Overthrust states that it is filing the refund report pursuant to a Commission Order issued May 21, 1991, “Order Approving Settlement with Modifications” in Docket Nos. RP85-60-000 and -002. Overthrust explains that Article V of the settlement, as modified, requires Overthrust to file an annual report 60 days after making the actual DIT refunds.

Any person desiring to protest said filing should file a protest with the Federal Energy Regulatory Commission, 888 First Street, NE., Washington, DC 20426, in accordance with Section 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Protest Date: February 6, 2004.

Magalie R. Salas,
Secretary.

[FR Doc. E4-194 Filed 2-5-04; 8:45 am]

BILLING CODE 6717-01-P